DEPARTMENT OF THE INTERIOR

National Park Service

Notice of Inventory Completion for Native American Human Remains and Associated Funerary Objects in the Possession of The State Museum of Pennsylvania, Harrisburg; Correction

AGENCY: National Park Service, Interior.

ACTION: Notice; correction.

Notice is here given in accordance with the Native American Graves Protection and Repatriation Act (NAGPRA), 25 U.S.C. 3003, of the completion of an inventory of human remains and associated funerary objects in the possession of The State Museum of Pennsylvania, Harrisburg, PA. The human remains and associated funerary objects were removed from Bucks, Chester, Delaware, Lawrence, and Luzerne Counties, PA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the identity of consulting parties and cultural affiliation in a Notice of Inventory Completion previously published in the Federal Register on October 26, 2000 (FR Doc 00-27395, pages 64232-64233) by the addition of the Stockbridge Munsee Community, Wisconsin and by the replacement of the Cherokee Nation, Oklahoma for the Delaware Tribe of Indians, Oklahoma due to the latter group's loss of federal recognition and standing as a NAGPRA entity.

In the Federal Register of October 26, 2000, paragraph number 3 is corrected by substituting the following paragraph:

A detailed assessment of the human remains was made by The State Museum of Pennsylvania professional staff in consultation with representatives of the Delaware Nation, Oklahoma; Delaware Tribe of Indians (now part of the Cherokee Nation, Oklahoma); and Stockbridge Munsee Community, Wisconsin.

In the Federal Register of October 26, 2000, paragraph numbers 14 and 15 are corrected by substituting the following paragraphs:

Officials of The State Museum of Pennsylvania have determined that, pursuant to 25 U.S.C. 3001 (9-10), the human remains listed above represent the physical remains of 58 individuals of Native American ancestry. Officials of The State Museum of Pennsylvania also have determined that, pursuant to 25 U.S.C. 3001 (3)(A), the 18,431 objects described above are reasonably believed to have been placed with or near individual human remains at the time of death or later as part of the death rite or ceremony. Lastly, officials of The State Museum of Pennsylvania have determined that, pursuant to 25 U.S.C. 3001 (2), there is a relationship of shared group identity that can be reasonably traced between the Native American human remains and associated funerary objects and the Cherokee Nation, Oklahoma, on behalf of the Delaware Tribe of Indians; Delaware Nation, Oklahoma; and Stockbridge Munsee Community, Wisconsin.

Representatives of any other Indian tribe that believes itself to be culturally affiliated with the human remains and associated funerary objects should contact Janet L. Johnson, Curator, The State Museum of Pennsylvania, 300 North Street, Harrisburg, PA 17120-0024, telephone (717) 705-0869, before November 30, 2007. Repatriation of the human remains and associated funerary objects to the Cherokee Nation, Oklahoma, on behalf of the Delaware Tribe of Indians; Delaware Nation, Oklahoma; and Stockbridge Munsee Community, Wisconsin may proceed after that date if no additional claimants come forward.

The State Museum of Pennsylvania is responsible for notifying Cherokee Nation, Oklahoma, on behalf of the Delaware Tribe of Indians; Delaware Nation, Oklahoma; and Stockbridge Munsee Community, Wisconsin that this notice has been published.

Dated: September 25, 2007.
Sherry Hutt,
Manager, National NAGPRA Program.

[FR Doc. E7-21364 Filed 10-30-07; 8:45 am]

BILLING CODE 4312-50-S